NATIONAL SCIENCE FOUNDATION

National Science Board; Commission on 21st Century Education in Science, Technology, Engineering and Mathematics; Notice of Meeting

In accordance with the Federal Advisory Committee Act (Pub. L. 92-463, as amended), the National Science Foundation announces the following meeting of the National Science Board Commission on 21st Century Education in Science, Technology, Engineering, and Mathematics:

Date and Time: The meeting will take place at 8 a.m. on January 18, 2007. Please see http://www.nsf.gov/nsb/edu_com/ for schedule updates.

Place: The meeting will be held in at the Arizona State Capitol, 1700 W. Washington Street, Phoenix, AZ 85007. Check with the information desk in the lobby of the Capitol for the meeting room.

Type of Meeting: Open.

Contact Person: Dr. Elizabeth Strickland, Commission Executive Secretary, National Science Board Office, 4201 Wilson Boulevard, Arlington, VA 22230; Phone: 703-292-4527, E-mail estrickl@nsf.gov

Purpose of Meeting: The purpose of this meeting is for the Commission to discuss its draft recommendations relating to K-12 STEM education. A provisional agena for the meeting will be available at http://www.nsf.gov/nsb/edu_com/ on January 4, 2007.

Topics to be Discussed: K-Science, Technology, Engineering, and Mathematics Education; recommendations of the Commission.

Public Comment: Written comments to the Commission may be submitted by e-mail to NSBEdCom@nsf.gov. Those wishing to make brief public comments during the meeting may register to do so either by signing up at the information table on the day of the meeting or in advance by sending an e-mail to NSBEdCom@nsf.gov.

Dated: December 21, 2006.
Susanne Bolton,
Committee Management Officer.

[FR Doc. 06-9900 Filed 12-27-06; 8:45 am]

BILLING CODE 7555-01-M